INTERNATIONAL TRADE COMMISSION

[Investigation No. 731-TA-744 (Review)]

Brake Rotors from China

Determination

On the basis of the record ¹ developed in the subject five-year review, the United States International Trade Commission determines, pursuant to section 751(c) of the Tariff Act of 1930 (19 U.S.C. 1675(c)), that revocation of the antidumping duty order on brake rotors from China would be likely to lead to continuation or recurrence of material injury to an industry in the United States within a reasonably foreseeable time.

¹ The record is defined in sec. 207.2(f) of the Commission's Rules of Practice and Procedure (19 CFR 207.2(f)).

Background

The Commission instituted this review on March 1, 2002 (67 FR 9462) and determined on June 4, 2002 that it would conduct an expedited review (67 FR 40964, June 14, 2002).

The Commission transmitted its determination in this review to the Secretary of Commerce on July 29, 2002. The views of the Commission are contained in USITC Publication 3528 (July 2002), entitled Brake Rotors From China: Investigation No. 731-TA-744 (Review).

By order of the Commission.
Issued: July 30, 2002.
Marilyn R. Abbott,
Secretary to the Commission.

[FR Doc. 02-19586 Filed 8-1-02; 8:45 am]

BILLING CODE 7020-02-P